DEPARTMENT OF TRANSPORTATION

Federal Aviation Administration

Notice of Intent To Rule on Request To Release Airport Property at Monroe Regional Airport, Monroe, LA

AGENCY: Federal Aviation Administration (FAA) DOT.

ACTION: Request for public comment.

SUMMARY: The FAA proposes to rule and invites public comment on the release of land at Monroe Regional Airport under the provisions of Title 49, U.S.C. 47153(c).

DATES: Comments must be received on or before March 5, 2007.

ADDRESSES: Comments on this application may be mailed or delivered to the FAA at the following address: Mr. Joseph G. Washington, Manager, Federal Aviation Administration, Southwest Region, Airports Division, Louisiana/New Mexico Airports Development Office, ASW-640, Fort Worth, Texas 76193-0640.

In addition, one copy of any comments submitted to the FAA must be mailed or delivered to Mayor James E. Mayo at the following address: Office of the Mayor, P.O. Box 123, Monroe, LA 71210.

FOR FURTHER INFORMATION CONTACT: Joseph G. Washington, Manager, Federal Aviation Administration, Louisiana/New Mexico Airports Development Office, ASW-640, 2601 Meacham Blvd., Fort Worth, Texas 76193-0640.

The request to release property may be reviewed in person at this same location.

SUPPLEMENTARY INFORMATION: The FAA invites public comment on the request to release property at the Monroe Regional Airport.

On January 24, 2007, the FAA determined that the request to release property at Monroe Regional Airport submitted by the City of Monroe met the procedural requirements of the Federal Aviation Regulations, Part 155. The FAA may approve the request, in whole or in part, no later than March 5, 2007.

The following is a brief overview of the request:

The City of Monroe, Louisiana requests the release of 7.588 acres of airport property. The release of property will allow for construction of a new 80,000 square foot warehouse facility and rail access for Allied Building Stores, Inc. to proceed. The sale is estimated to provide $91,000.00 whereas the proceeds will go to continue the Bermuda Release Program (turf improvement on the airfield) and expansion of the security camera system in the terminal building and on the airfield.

Any person may inspect the request in person at the FAA office listed above under FOR FURTHER INFORMATION CONTACT.

In addition, any person may, upon request, inspect the application, notice and other documents germane to the application in person at the Monroe Regional Airport, Monroe, Louisiana.

Issued in Fort Worth, Texas, on January 26, 2007.
Kelvin L. Solco,
Manager, Airports Division.

[FR Doc. 07-468 Filed 2-1-07; 8:45 am]

BILLING CODE 4910-13-M